DEPARTMENT OF HEALTH AND HUMAN SERVICES

Administration for Children and Families

Administration on Children, Youth and Families; Notice To Award One Expansion Supplement Grant

AGENCY: Family and Youth Services Bureau, ACYF, ACF, HHS.

ACTION: Notice to award one expansion supplement grant.

CFDA Number: 93.592.

Legislative Authority: The Family Violence Prevention and Services Act, 42 U.S.C. 10401 through 10421, as extended by the Department of Health and Human Services Appropriations Act, 2009, Public Law 111-8.

Total Amount of Award: $225,000.

Project Period: September 30, 2009-September 29, 2010.

SUMMARY: This notice announces the award of an expansion supplement grant to one grantee under the Family and Youth Services Bureau (FYSB)/Family Violence Prevention and Services Program. The expansion supplement award is made to the Pennsylvania Coalition Against Domestic Violence, Harrisburg, PA, a technical assistance provider, to support their capacity to provide technical support and training to State and local domestic violence advocates and social service agencies. These efforts will allow FYSB to support collaborative work to enhance the capacity of Temporary Assistance to Needy Families (TANF) and other Federal programs to provide assistance to eligible victims of domestic violence.

FOR FURTHER INFORMATION CONTACT: Marylouise Kelley, Ph.D., Director, Family Violence Prevention and Services Program, 1250 Maryland Avenue, SW., Suite 8216, Washington, DC 20024. Telephone: 202-104-5756 E-mail: Marylouise.kelley@acf.hhs.gov.

Dated: November 10, 2009.
Maiso L. Bryant,
Acting Commissioner, Administration on Children, Youth and Families.

[FR Doc. E9-27667 Filed 11-17-09; 8:45 am]

BILLING CODE 4184-32-P